DEPARTMENT OF HEALTH AND HUMAN SERVICES

Centers for Medicare and Medicaid Services

[Document Identifier: CMS-10109]

Emergency Clearance: Public Information Collection Requirements Submitted to the Office of Management and Budget (OMB)

AGENCY: Centers for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration and is required in order to meet the demands of new legislation. We cannot reasonably comply with the normal clearance procedures because of an unanticipated event and possible public harm.

This Hospital Reporting Initiative will collect quality data to achieve the following: (1) Provide useful and valid information about hospital quality to the public; (2) provide hospitals a sense of predictability about public reporting expectations; (3) begin to standardize data and data collection mechanisms; and (4) foster hospital quality improvement. This information is an important tool for individuals to use in making decisions about their health care coverage. This effort will assist beneficiaries by providing comparison information for consumers who need to select a hospital. It will also serve as a way of encouraging accountability of hospitals for the care they provide. This will allow consumers to make “apples to apples” comparisons among hospitals, allow hospitals and hospital chains to self-compare, and provide state oversight officials with valuable data. The Medicare Prescription Drug, Improvement, and Modernization Act of 2003 provides monetary incentives for hospitals to submit specific quality data. Due to the timeframe imposed by the recent legislation, CMS is requesting emergency review in order to meet the deadlines established by the legislation.

CMS is requesting OMB review and approval of this collection by May 1, 2004, with a 180-day approval period. Written comments and recommendation will be accepted from the public if received by the individuals designated below by March 18, 2004.

Type of Information Collection Request: New collection; Title of Information Collection: Hospital Reporting Initiative—Hospital Quality Measures; Use: There is a growing consensus among a broad array of federal, state, business, industry, union, employer, and consumer stakeholders around the importance of public reporting of hospital quality measures, including those that measure clinical outcomes and the patient's perception of care. Over time, public reporting will give consumers needed information about the health care system that may help them make more informed decisions about their care. Valid, reliable, comparable and salient quality measures have been shown to provide a potent stimulus for clinicians and providers to improve the quality of the care they provide. This reporting initiative is a significant step toward a more informed public and sustained health care quality improvement for Medicare beneficiaries; Form Number: CMS-10109 (OMB#: 0938-NEW); Frequency: Annually; Affected Public: Business or other for-profit; Number of Respondents: 4,600; Total Annual Responses: 4,600; Total Annual Hours: 239,200.

To obtain copies of the supporting statement and any related forms for the proposed paperwork collections referenced above, access CMS's Web site address at http://cms.hhs.gov/regulations/pra/default.asp, or E-mail your request, including your address, phone number, OMB number, and CMS document identifier, to Paperwork@hcfa.gov, or call the Reports Clearance Office on (410) 786-1326.

Interested persons are invited to send comments regarding the burden or any other aspect of these collections of information requirements. However, as noted above, comments on these information collection and recordkeeping requirements must be mailed and/or faxed to the designees referenced below by March 18, 2004:

CMS, Office of Strategic Operations and Regulatory Affairs, Division of Regulations Development and Issuances, Attention: Dawn Willinghan, CMS-10109, Room C5-14-03, 7500 Security Boulevard, Baltimore, Maryland 21244-1850

and,

Office of Information and Regulatory Affairs, Office of Management and Budget, Room 10235, New Executive Office Building, Washington, DC 20503, Attn.: Brenda Aguilar, Desk Officer, Fax # 202-395-6974.

Dated: February 9, 2004.
Dawn Willinghan,
Acting Paperwork Reduction Act Team Leader, Office of Strategic Operations and Strategic Affairs, Division of Regulations Development and Issuances.

[FR Doc. 04-3418 Filed 2-17-04; 8:45 am]

BILLING CODE 4120-03-P